DEPARTMENT OF ENERGY

Excom, Inc.

AGENCY: Department of Energy, Office of the General Counsel.

ACTION: Notice of Invention Available for License and Intent to Grant Exclusive License.

SUMMARY: Notice is hereby given that the “Smart Visual Sensor” (SVS) technology, developed under ISTC project # 3195, is available for licensing in the United States as deemed appropriate in the public interest. Excom, Inc., of Holmden, NJ, has applied for an exclusive license to practice the SVS technology in the U.S. The U.S. Government has the exclusive authority to license the SVS technology in the United States.

DATES: Written comments or nonexclusive license applications are to be received at the address listed below no later than April 4, 2008.

ADDRESSES: Office of the Assistant General Counsel for Technology Transfer and Intellectual Property, U.S. Department of Energy, 1000 Independence Ave., SW., Washington, DC 20585.

FOR FURTHER INFORMATION: John T. Lucas, Office of the Assistant General Counsel for Technology Transfer and Intellectual Property, U.S. Department of Energy, Forrestal Building, Room 6F-067, 1000 Independence Ave., SW., Washington, DC 20585; Telephone (202) 586-2939.

SUPPLEMENTARY INFORMATION: 35 U.S.C. 209 provides federal agencies with authority to grant exclusive licenses in federally-owned inventions, if, among other things, the agency finds that the public will be served by the granting of the license. The statute requires that no exclusive license may be granted unless public notice of the intent to grant the license has been provided, and the agency has considered all comments received in response to that public notice, before the end of the comment period.

Excom, Inc., of Holmdel, NJ has applied for an exclusive license to the SVS technology and has plans for its commercialization. The exclusive license will be subject to a license and other rights retained by the U.S. Government, and other terms and conditions to be negotiated. DOE intends to negotiate to grant the license, unless, within 45 days of this notice, the Assistant General Counsel for Technology Transfer and Intellectual Property, Department of Energy, Washington, DC 20585, receives in writing any of the following, together with supporting documents:

(i) A statement from any person setting forth reason why it would not be in the best interests of the United States to grant the proposed license; or

(ii) An inquiry concerning the technology, followed by an application for a nonexclusive license to the technology in which applicant states that it already has brought the invention to practical application or is likely to bring the technology to practical application expeditiously

The Department will review all timely written responses to this notice, and will proceed with negotiating the license if, after consideration of written responses to this notice, a finding is made that the license is in the public interest.

Issued in Washington, DC on February 7, 2008.
Paul A. Gottlieb,
Assistant General Counsel for Technology Transfer and Intellectual Property.

[FR Doc. E8-3010 Filed 2-15-08; 8:45 am]

BILLING CODE 6450-01-P